ENVIRONMENTAL PROTECTION AGENCY

[FRL-8768-5]

Underground Injection Control Program; Hazardous Waste Injection Restrictions; Petition for Exemption—Class I Hazardous Waste Injection; ExxonMobil Environmental Services Company, Pasadena, TX

AGENCY: Environmental Protection Agency.

ACTION: Notice of a Final Decision on a No Migration Petition.

SUMMARY: Notice is hereby given that an exemption to the land disposal restrictions under the 1984 Hazardous and Solid Waste Amendments to the Resource Conservation and Recovery Act have been granted to ExxonMobil Environmental Services Company for a Class I injection well located at Pasadena, Texas. As required by 40 CFR part 148, the company has adequately demonstrated to the satisfaction of the Environmental Protection Agency by the petition and supporting documentation that, to a reasonable degree of certainty, there will be no migration of hazardous constituents from the injection zone for as long as the waste remains hazardous. This final decision allows the underground injection by ExxonMobil, of the specific restricted hazardous wastes identified in this exemption, into Class I hazardous waste injection well No. WDW-397 at the Agrifos Pasadena Texas Fertilizer facility, Pasadena, Texas, until December 31, 2020, unless EPA moves to terminate this exemption under provisions of 40 CFR 148.24. Additional conditions included in this final decision may be reviewed by contacting the Region 6 Ground Water/UIC Section. As required by 40 CFR 148.22(b) and 124.10, a public notice was issued November 25, 2008. The public comment period closed on January 9, 2009. No comments were received. This decision constitutes final Agency action and there is no Administrative appeal. This decision may be reviewed/appealed in compliance with the Administrative Procedure Act.

DATES: This action is effective as of January 15, 2009.

ADDRESSES: Copies of the petition and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-7150.

Dated: January 15, 2009.
Miguel I. Flores,
Division Director, Water Quality Protection Division.

[FR Doc. E9-2413 Filed 2-3-09; 8:45 am]

BILLING CODE 6560-50-P